DEPARTMENT OF HOMELAND SECURITY

Coast Guard

[Docket No. USCG-2014-0352]

Merchant Marine Personnel Advisory Committee

AGENCY: Coast Guard, DHS.

ACTION: Notice of Federal Advisory Committee Teleconference Meeting.

SUMMARY: The Merchant Marine Personnel Advisory Committee (MERPAC) will meet, via teleconference, to discuss Task Statement 80, concerning crew training requirements onboard vessels subject to the International Code of Safety for ships using gases or low flashpoint fuels (IGF Code). This meeting will be open to the public.

DATES: The teleconference meeting will take place on June 10, 2014, from 1 p.m. until 3 p.m. EST. Please note that this meeting may adjourn early if all business is finished. Written comments for distribution to committee members and inclusion on the MERPAC Web site must be submitted on or before June 3, 2014. Members of the public wishing to attend must register with Mr. Davis Breyer, ADFO of MERPAC no later than June 3, 2014. Contact Mr. Breyer as indicated in the FOR FURTHER INFORMATION CONTACT section of this notice no later than June 3, 2014 to register as a speaker.

ADDRESSES: To participate by phone, contact the Alternate Designated Federal Officer (ADFO) listed below in the FOR FURTHER INFORMATION CONTACT section to obtain teleconference information. Note the number of teleconference lines is limited and will be available on a first-come, first-served basis. To join those participating in this teleconference from U.S. Coast Guard Headquarters, come to Room 6J07-02, 2703 Martin Luther King Jr Ave. SE., Washington, DC 20593-7509. Due to security at the Coast Guard Headquarters building, members of the public wishing to attend must register with Mr. Davis Breyer, ADFO of MERPAC, at (202) 372-1445 or davis.j.breyer@uscg.mil. All visitors to Coast Guard Headquarters must provide identification in the form of a Government issued picture identification card for access to the facility. Please arrive at least 30 minutes before the planned start of the meeting in order to pass through security.

For information on facilities or services for individuals with disabilities or to request special assistance, contact the Alternate Designated Federal Officer (ADFO) listed below in the FOR FURTHER INFORMATION CONTACT section as soon as possible.

To facilitate public participation, we are inviting public comment on the issues to be considered by the committee as listed in the “Agenda” section below. Written comments must be identified by Docket No. USCG-2014-0352 submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://regulations.gov, including any personal information provided. You may review a Privacy Act notice regarding our public dockets in the January 17, 2008, issue of the Federal Register (73 FR 3316).

Docket: For access to the docket to read documents or comments related to this notice, go to http://www.regulations.gov, enter the docket number in the “Search” field and follow the instructions on the Web site.

A public oral comment period will be held after the working group report. Speakers are requested to limit their comments to 3 minutes. Please note that the public oral comment period will end following the last call for comments. This notice may be viewed in our online docket, USCG-2014-0352, at http://www.regulations.gov.

FOR FURTHER INFORMATION CONTACT: Mr. Davis Breyer, Alternate Designated Federal Officer (ADFO), telephone 202-372-1445, or at davis.j.breyer@uscg.mil. If you have any questions on viewing or submitting material to the docket, call Cheryl Collins, Program Manager, Docket Operations, telephone 202-366-9826 or 1-800-647-5527.

SUPPLEMENTARY INFORMATION: Notice of this meeting is given under the Federal Advisory Committee Act (FACA), Title 5, United States Code, Appendix (Pub. L. 92-463).

MERPAC is an advisory committee established under the Secretary's authority in section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation is available at https://homeport.uscg.mil by using these key strokes: Missions; Port and Waterways Safety; Advisory Committees; MERPAC; and then use the Announcements key. Alternatively, you may contact Mr. Breyer as noted in the FOR FURTHER INFORMATION CONTACT section above.

Agenda

The agenda for the June 10, 2014 committee teleconference meeting is as follows:

(1) Introduction;

(2) Roll call of committee members and determination of a quorum;

(3) Designated Federal Officer (DFO) announcements;

(4) Report from the Task Statement 80 working group, concerning crew training requirements onboard vessels subject to the International Code of Safety for ships using gases or low flashpoint fuels (IGF Code).

(5) Public comment period/presentations.

(6) Discussion of working group recommendations. The committee will review the information presented on this issue, deliberate on any recommendations presented by the working group and approve/formulate recommendations for the Department's consideration. Official action on these recommendations may be taken on this date.

(7) Closing remarks.

(8) Adjournment of meeting.

Dated: May 13, 2014.
F.J. Sturm,
Acting Director of Commercial Regulations and Standards.

[FR Doc. 2014-11416 Filed 5-15-14; 8:45 am]

BILLING CODE 9110-04-P